DEPARTMENT OF DEFENSE

Department of the Army; Corps of Engineers

Availability of the Arlington National Cemetery Southern Expansion Project and Associated Roadway Realignment Draft Environmental Assessment, Arlington, VA

AGENCY: Department of the Army, U.S. Army Corps of Engineers, DoD.

ACTION: Notice of availability and public meeting.

SUMMARY: The U.S. Army Corps of Engineers (USACE) Norfolk District, on behalf of the Arlington National Cemetery (ANC), announces the availability of a Draft Environmental Assessment (Draft EA) for the Arlington National Cemetery Southern Expansion Project and Associated Roadway Realignment project, for review and comment. The Draft EA evaluates the proposal to increase the cemetery's contiguous acreage, realign roadways, and maximize burial space by utilizing an area adjacent to the existing cemetery that includes the former Navy Annex site, located south of the existing cemetery, in Arlington, Virginia. The cemetery has been working with the owners and operators of the adjacent road network, Arlington County and the Virginia Department of Transportation, and the Federal Highway Administration, on a roadway realignment that supports the short- and long-term multimodal transportation system for the Commonwealth of Virginia and Arlington County.

DATES: The Draft EA is available for a 30-day review period. Written comments will be accepted until the close of business on September 22, 2018.

ADDRESSES: The public is invited to submit comments to Ms. Kathy Perdue, Department of the Army, U.S. Army Corps of Engineers, Norfolk District, Planning and Policy Branch, 803 Front St., Norfolk, VA 23510 or via email: SouthernExpansion@usace.army.mil. The Project title and the commenter's contact information should be included with submitted comments.

FOR FURTHER INFORMATION CONTACT: Ms. Kathy Perdue, (757) 201-7218.

SUPPLEMENTARY INFORMATION: As part of the public involvement process, notice is hereby given by the USACE Norfolk District, on behalf of the ANC, of a public information meeting that will be held on August 22, 2018, from 5:00 to 8:00 p.m., at the Sheraton Pentagon City Hotel, 900 S Orme Street, Arlington, VA 22204. The public information meeting will allow participants the opportunity to comment and ask questions on the Draft EA. Attendance at the public meeting is not necessary to provide comments. Written comments may also be given to the contact listed under ADDRESSES.

The document is available for review at the following locations:

(1) The USACE Norfolk District Arlington National Cemetery Southern Expansion website: http://www.nao.usace.army.mil/Missions/Military-Construction/ANCSouthernExpansion/

(2) The ANC website: https://www.arlingtoncemetery.mil/About/Policies-and-Public-Notices/Public-Notices

(3) Copies at the following Arlington County, Virginia Public Libraries:

a. Arlington County Central Library, 1015 N Quincy Street, Arlington, VA 22201.

b. Aurora Hills Branch Public Library, 735 South 18th Street, Arlington, VA 22202.

c. Columbia Pike Branch Public Library, 816 South Walter Reed Drive, Arlington, VA 22204.

The ANC is the lead federal agency for this Project, and the USACE has prepared the draft NEPA document on its behalf, assisted by the HNTB Corporation. The following are serving as cooperating agencies during the NEPA process: Federal Highway Administration (FHWA), the Environmental Protection Agency (EPA), the National Capital Planning Commission (NCPC), the Virginia Department of Transportation (VDOT), and Arlington County. The ANC and the USACE also considered the input of various stakeholder organizations and the public.

ANC is located within the eastern boundary of Arlington County, in the northeastern corner of the Commonwealth of Virginia, and at the western terminus of Memorial Avenue, directly across the Arlington Memorial Bridge and the Potomac River from the District of Columbia (Washington, DC). ANC is our nation's most hallowed ground. This Army cemetery consists of 624 acres and is the final resting place of over 400,000 service members and their families. The proposed Southern Expansion site, bounded by Washington Boulevard (Route 27), I-395, the VDOT Maintenance Complex, the Foxcroft Heights neighborhood, and the ANC, involves approximately 70 acres among three landowners: ANC, Arlington County, and VDOT.

Proposed Action. The Proposed Action is to establish a single contiguous parcel of land south of the cemetery by closing and relocating local roadways and developing the parcel to increase interment capacity and increase multimodal transportation capacity on Columbia Pike. The contiguous parcel would be created through the replacement of Southgate Road with a new South Nash Street, and realignment of Columbia Pike and the Columbia Pike/Washington Boulevard interchange (adjacent to the Pentagon). The existing Air Force Memorial (AFM) would be incorporated into the cemetery expansion, and the existing Operations Complex would be relocated south of Columbia Pike.

Alternatives. The Draft EA considers a full range of alternatives that meet the Proposed Action's purpose and need, while avoiding and minimizing impacts to the maximum extent practicable. Alternatives were developed that leverage to varying degrees the Army-owned land south of Columbia Pike to increase contiguous space for burials and cemetery operational effectiveness. Alternatives considered in detail included: (1) Relocate Operations Complex Alternative (Preferred Alternative/Proposed Action); (2) Maintain Operations Complex with Tunnel Alternative; and (3) Maintain Operations Complex without Tunnel Alternative.

Public Involvement. A Notice of Intent to prepare an EA was published in the Federal Register (81 FR 23281) on April 20, 2016. A public NEPA scoping meeting was held on April 27, 2016, in Arlington County.

Pursuant to the requirements of the National Environmental Policy Act of 1969, as amended (NEPA), 42 U.S.C. 4321-4370, as implemented by the Council on Environmental Quality Regulations (40 CFR parts 1500-1508), the ANC, as the lead federal agency, has determined that the project does not have the potential to cause significant impacts on the human environment, and has developed the Draft EA to examine and assess the impacts of the Proposed Action.

Brenda S. Bowen,
Army Federal Register Liaison Officer.

[FR Doc. 2018-17573 Filed 8-15-18; 8:45 am]

BILLING CODE 3720-58-P